DEPARTMENT OF EDUCATION

[Docket No.: ED-2024-SCC-0139]

Agency Information Collection Activities; Comment Request; Regional Educational Laboratory Southwest Leading Early Childhood Achievement and Development (LEAD) Efficacy Study

AGENCY: Institute of Education Sciences (IES), Department of Education (ED).

ACTION: Notice.

SUMMARY: In accordance with the Paperwork Reduction Act (PRA) of 1995, the Department is proposing a new information collection request (ICR).

DATES: Interested persons are invited to submit comments on or before January 13, 2025.

ADDRESSES: To access and review all the documents related to the information collection listed in this notice, please use https://www.regulations.gov by searching the Docket ID number ED-2024-SCC-0139. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-1200.

FOR FURTHER INFORMATION CONTACT: For specific questions related to collection activities, please contact Anousheh Shayestehpour, 202-987-1148.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Regional Educational Laboratory Southwest Leading Early Childhood Achievement and Development (LEAD) Efficacy Study.

OMB Control Number: 1850-NEW.

Type of Review: A new ICR.

Respondents/Affected Public: Individuals and Households.

Total Estimated Number of Annual Responses: 408.

Total Estimated Number of Annual Burden Hours: 260.

Abstract: The Oklahoma State Department of Education (OSDE) would like to address disparities in instructional quality by increasing the use of research-based early learning practices in PreK and kindergarten classrooms. OSDE, Anadarko Public Schools, Shawnee Public Schools, and the Regional Educational Laboratory (REL) Southwest formed the Leading Early Childhood Achievement and Development (LEAD) partnership in Oklahoma to respond to this need. Since 2023, REL Southwest has collaborated with these partners to codevelop, iteratively refine, and test a professional learning intervention (referred to as the LEAD intervention). The LEAD intervention is designed to complement and fully support the use of Oklahoma's Academic Standards and district-selected curricula. The intervention aims to build school leaders' and PreK and kindergarten teachers' knowledge of research-based early learning practices—play-based instructional practices and high-quality interactions. In addition, the LEAD intervention aims to develop school leaders' instructional leadership skills and provide resources to support PreK and kindergarten teachers' implementation of research-based practices. In time, these practices are expected to lead to better academic outcomes for students.

REL Southwest is developing the LEAD intervention through an approved Training, Coaching, and Technical Support (TCTS) project. To increase the likelihood that the LEAD intervention will achieve its intended outcomes, the partnership is also studying the usability, feasibility, and acceptability of the core components of the LEAD intervention, through two iterations of piloting the LEAD intervention across two cohorts: cohort 1 during the 2023/24 school year and cohort 2 during the 2024/25 school year. To date, the LEAD intervention has completed the cohort 1 pilot with two districts and their four schools and is conducting the cohort 2 pilot with two districts and their two schools.

REL Southwest is requesting clearance to conduct an efficacy study with a third cohort of schools. The study will be conducted in 44 schools across Oklahoma and will focus on school leaders and preK and kindergarten teachers and students. Data collected for this study will be used to measure the implementation of the LEAD intervention in participating schools and the LEAD intervention's efficacy in improving school leaders' and teachers' knowledge of research-based early learning practices; teachers' use of play-based learning practices and high-quality teacher-student interactions; and students' attendance, early academic skills, and skills to support learning. This efficacy study will provide evidence on LEAD implementation and its impact on educators and preK and kindergarten students in Oklahoma.

Dated: November 8, 2024.
Juliana Pearson,
PRA Coordinator, Strategic Collections and Clearance Governance and Strategy Division, Office of Chief Data Officer, Office of Planning, Evaluation and Policy Development.

[FR Doc. 2024-26509 Filed 11-13-24; 8:45 am]

BILLING CODE 4000-01-P